DEPARTMENT OF TRANSPORTATION

Federal Aviation Administration

14 CFR Part 39

[Docket No. FAA-2007-27712; Directorate Identifier 2006-NM-233-AD; Amendment 39-15207; AD 2007-19-16]

RIN 2120-AA64

Airworthiness Directives; Boeing Model 747 Airplanes

AGENCY: Federal Aviation Administration (FAA), Department of Transportation (DOT).

ACTION: Final rule.

SUMMARY: The FAA is superseding an existing airworthiness directive (AD), which applies to certain Boeing Model 747 series airplanes. That AD requires a one-time inspection for discrepancies of the potable water and drain lines in the cargo compartments, and corrective action if necessary. This new AD requires that the inspection be repetitively performed using new service information, until terminating action is done. This AD also removes certain airplanes from the applicability. This AD results from a report of a fire in the aft cargo compartment started by a potable water line heater tape. We are issuing this AD to prevent overheating of the heater tape on potable water fill and drain lines, which could ignite accumulated debris or contaminants on or near the potable water fill and drain lines, resulting in a fire in the airplane.

DATES: This AD becomes effective October 26, 2007.

The Director of the Federal Register approved the incorporation by reference of a certain publication listed in the AD as of October 26, 2007.

ADDRESSES: You may examine the AD docket on the Internet at http://dms.dot.gov or in person at the U.S. Department of Transportation, Docket Operations, M-30, West Building Ground Floor, Room W12-140, 1200 New Jersey Avenue, SE., Washington, DC.

Contact Boeing Commercial Airplanes, P.O. Box 3707, Seattle, Washington 98124-2207, for service information identified in this AD.

FOR FURTHER INFORMATION CONTACT: Don Eiford, Aerospace Engineer, Cabin Safety and Environmental Systems Branch, ANM-150S, FAA, Seattle Aircraft Certification Office, 1601 Lind Avenue, SW., Renton, Washington 98057-3356; telephone (425) 917-6465; fax (425) 917-6590.

SUPPLEMENTARY INFORMATION:

Examining the Docket

You may examine the AD docket on the Internet at http://dms.dot.gov or in person at the Docket Operations office between 9 a.m. and 5 p.m., Monday through Friday, except Federal holidays. The Docket Operations office (telephone (800) 647-5527) is located on the ground floor of the West Building at the DOT street address stated in the ADDRESSES section.

Discussion

The FAA issued a notice of proposed rulemaking (NPRM) to amend 14 CFR part 39 to include an AD that supersedes AD 2004-09-10, amendment 39-13599 (69 FR 23647, April 30, 2004). The existing AD applies to certain Boeing Model 747 series airplanes. That NPRM was published in the Federal Register on March 29, 2007 (72 FR 14719). That NPRM proposed to require repetitive inspections of the potable water and drain lines in the cargo compartments for indications of overheating of the heater tape, exposed foam insulation, missing or damaged protective tape, or debris around the potable water fill and drain lines; corrective action, if necessary; and eventual installation of new ribbon heaters, which would terminate the repetitive inspections. That NPRM also proposed to remove certain airplanes from the applicability.

Relevant Service Information

The NPRM cited Boeing Alert Service Bulletin 747-30A2080, Revision 2, dated September 14, 2006, as the appropriate source of service information for the proposed actions. Boeing has since revised the service bulletin. We have reviewed Boeing Service Bulletin 747-30A2080, Revision 3, dated June 14, 2007. Revision 3 removes certain airplanes from the effectivity, revises certain references, and updates certain other information, but otherwise does not substantially change any of the actions.

Comments

We provided the public the opportunity to participate in the development of this AD. We have considered the comment that has been received on the NPRM.

Request To Remove Airplanes From the Proposed Applicability

Boeing requests that we revise the applicability of the NPRM to remove Model 747-400 passenger airplanes that have been converted to the 747-400 BCF configuration, except for the first such configured airplane (variable number RT456). Boeing reports that as part of the conversion, heater tapes are replaced with new heater ribbons that satisfy the requirements for the terminating action specified in the NPRM and eliminates the unsafe condition associated with the installation of heater tapes addressed by superseded AD 2004-09-10.

We agree with Boeing's rationale. Accordingly, we have revised Note 1 and paragraphs (c), (f), and (g) in this final rule to refer to Revision 3 of the service bulletin. We have also revised paragraph (h) in this final rule to provide credit for actions already accomplished as specified in Revision 2 of the service bulletin.

Conclusion

We have carefully reviewed the available data, including the comment that has been received, and determined that air safety and the public interest require adopting the AD with the changes described previously. We have determined that these changes will neither increase the economic burden on any operator nor increase the scope of the AD.

Costs of Compliance

There are about 1,114 airplanes of the affected design in the worldwide fleet. The following table provides the estimated costs for U.S. operators to comply with this AD, at an average labor rate of $80 per hour. The cost of parts is minimal.

Estimated Costs
Action | Group | Work hours | Cost per airplane | No. of U.S.-registered airplanes | Fleet cost by group
Inspection (cost per inspection cycle) | 1 2 (Config. 1) 2 (Config. 2) | 3 2 2 | $240 160 160 | 113 18 17 | $27,120 2,880 2,720
| 3 | 3 | 240 | 2 | 480
| 4 | 3 | 240 | 0 | 0
| 5 | 2 | 160 | 0 | 0
Modification | 1 | 48 | 3,840 | 113 | 433,920
| 2 (Config. 1) | 7 | 560 | 18 | 10,080
| 2 (Config. 2) | 15 | 1,200 | 17 | 20,400
| 2 (Config. 3) | 8 | 640 | 17 | 10,880
| 3 | 60 | 4,800 | 2 | 9,600
| 4 | 61 | 4,880 | 0 | 0
| 5 | 27 | 2,160 | 0 | 0

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13599 (69 FR 23647, April 30, 2004) and by adding the following new airworthiness directive (AD):

2007-19-16 Boeing: Amendment 39-15207. Docket No. FAA-2007-27712; Directorate Identifier 2006-NM-233-AD.

Effective Date

(a) This AD becomes effective October 26, 2007.

Affected ADs

(b) This AD supersedes AD 2004-09-10.

Applicability

(c) This AD applies to Boeing Model 747 airplanes, certificated in any category, as identified in Boeing Service Bulletin 747-30A2080, Revision 3, dated June 14, 2007.

Note 1: For the purposes of this AD, a cargo area that is not fully enclosed or not enclosed, as identified in Boeing Service Bulletin 747-30A2080, Revision 3, dated June 14, 2007, is a floor without panels installed between all roller trays in the cargo compartment.

Unsafe Condition

(d) This AD results from a report of a fire in the aft cargo compartment started by a potable water line heater tape. We are issuing this AD to prevent overheating of the heater tape on potable water fill and drain lines, which could ignite accumulated debris or contaminants on or near the potable water fill and drain lines, resulting in a fire in the airplane.

Compliance

(e) You are responsible for having the actions required by this AD performed within the compliance times specified, unless the actions have already been done.

Inspections

(f) At the later of the times specified in paragraphs (f)(1) and (f)(2) of this AD: Do the initial inspections specified in Table 1 of this AD in accordance with the Accomplishment Instructions of Boeing Service Bulletin 747-30A2080, Revision 3, dated June 14, 2007. Correct any discrepancy before further flight in accordance with the service bulletin. Repeat the inspections at the applicable time specified in Table 1 of this AD.

(1) Within 18 calendar months since the date of issuance of the original standard airworthiness certificate or within 18 calendar months since the date of issuance of the original export certificate of airworthiness.

(2) Within 90 calendar days after the effective date of this AD.

Table 1.—Inspections
Do a general visual inspection of the forward and aft cargo compartments, as applicable, for— | And repeat the inspection at intervals not to exceed— | Until—
Foreign object debris (FOD) or contamination on, near, or around the potable water supply and gray water drain lines | 600 flight hours | The heater tape replacement required by paragraph (g) of this AD is done.
Indications of heat damage, exposed foam insulation, or missing or damaged protective tape of all heater tape on the potable water supply and gray water drain lines | 1,800 flight hours | The heater tape replacement required by paragraph (g) of this AD is done.

Terminating Action

(g) At the applicable time specified in Table 2 of this AD: Replace the heater tape on the potable water supply and gray water drain lines of the forward and aft cargo compartments, as applicable, with Adel Wiggins ribbon heaters. Do the actions in accordance with the Accomplishment Instructions of Boeing Service Bulletin 747-30A2080, Revision 3, dated June 14, 2007. This replacement terminates the requirements of paragraph (f) of this AD.

Table 2.—Compliance Time for Terminating Action
For airplanes on which the heater tape has— | (1) Replace the heater tape at the later of—
(1) Not been replaced before the effective date of this AD in accordance with Boeing Alert Service Bulletin 747-30A2079, dated December 12, 2002; Revision 1, dated October 16, 2003; or Revision 2, dated December 16, 2004 | Within 42 months since the date of issuance of the original standard airworthiness certificate or the date of issuance of the original export certificate of airworthiness, whichever occurs first | 24 months after the effective date of this AD.
(2) Been replaced before the effective date of this AD in accordance with Boeing Alert Service Bulletin 747-30A2079, dated December 12, 2002; Revision 1, dated October 16, 2003; or Revision 2, dated December 16, 2004 | Within 42 months after the heater tape was replaced | 24 months after the effective date of this AD.

Provisions for Previously Accomplished Work

(h) Actions done before the effective date of this AD in accordance with Boeing Alert Service Bulletin 747-30A2080—either the original version dated December 16, 2004, or Revision 1, dated August 18, 2005—are acceptable for compliance with the corresponding requirements of this AD; except, for Group 2, Configuration 2 and Configuration 3 airplanes, as defined in Revision 2 of the service bulletin, additional work is required in the forward cargo compartment, as specified in Parts 1, 2, and 3 of the service bulletin and required by this AD. Actions done before the effective date of this AD in accordance with Boeing Alert Service Bulletin 747-30A2080, Revision 2, dated September 14, 2006, are acceptable for compliance with the corresponding requirements of this AD.

Alternative Methods of Compliance (AMOCs)

(i)(1) The Manager, Seattle Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(j) You must use Boeing Service Bulletin 747-30A2080, Revision 3, dated June 14, 2007, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the FAA, Transport Airplane Directorate, 1601 Lind Avenue, SW., Renton, Washington; or at the National Archives and Records Administration (NARA). For information on the availability of this material at NARA, call 202-741-6030, or go to http://www.archives.gov/federal-register/cfr/ibr-locations.html.

Issued in Renton, Washington, on September 10, 2007.
Ali Bahrami,
Manager, Transport Airplane Directorate, Aircraft Certification Service.

[FR Doc. E7-18473 Filed 9-20-07; 8:45 am]

BILLING CODE 4910-13-P